DEPARTMENT OF AGRICULTURE

Forest Service

Notice of Lincoln County Resource Advisory Committee Meetings

AGENCY: Forest Service, USDA.

ACTION: Notice of meeting

SUMMARY: Pursuant to the authorities in the Federal Advisory Committee Act (Public Law 92-463) and under the Secure Rural Schools and Community Self-Determination Act of 2000 (Pub. L. 106-393) the Kootenai National Forest's Lincoln County Resource Advisory Committee will meet on Tuesday, August 17, 2010 at 6 p.m. at the Forest Supervisor's Office in Libby, Montana for a business meeting. The meeting is open to the public.

DATES: August 17, 2010.

ADDRESSES: Forest Supervisor's Office, 31374 U.S. Hwy 2, Libby, Montana.

FOR FUTHER INFORMATION CONTACT: Janette Turk, Committee Coordinator, Kootenai National Forest at (406) 283-7764, or e-mail jturk@fs.fed.us.

SUPPLEMENTARY INFORMATION: Agenda will include new member introductions, RAC recommendations to the Designated Forest Official (DFO), timeline for submission of RAC proposals, and local contracting opportunities. If the meeting date or location is changed, notice will be posted in the local newspapers, including the Daily Interlake based in Kalispell, Montana.

Dated: August 3, 2010.
Paul Bradford,
Forest Supervisor.

[FR Doc. 2010-19699 Filed 8-13-10; 8:45 am]

BILLING CODE 3410-11-P